DEPARTMENT OF HEALTH AND HUMAN SERVICES

Centers for Disease Control and Prevention

Disease, Disability, and Injury Prevention and Control Special Emphasis Panel (SEP): Initial Review

The meeting announced below concerns Using Longitudinal Data to Characterize the Natural History of Fragile X Syndrome to Improve Services and Outcomes, DD15-003, initial review.

SUMMARY: This document corrects a notice that was published in the Federal Register on March 25, 2015 Volume 80, Number 57, page 15798. The time and date should read as follows:

Time and Date: 11:00 a.m.-6:00 p.m., April 15, 2015 (Closed).

FOR FURTHER INFORMATION CONTACT: M. Chris Langub, Ph.D., Scientific Review Officer, CDC, 4770 Buford Highway NE., Mailstop F46, Atlanta, Georgia 30341, Telephone: (770) 488-3585, EEO6@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-07544 Filed 4-1-15; 8:45 am]

BILLING CODE 4163-18-P